DEPARTMENT OF TRANSPORTATION

Transportation Security Administration

49 CFR Part 1511

[Docket No. TSA-2002-11334]

RIN 2110-AA02

Aviation Security Infrastructure Fees

AGENCY: Transportation Security Administration, DOT.

ACTION: Extension of comment period.

SUMMARY: This document announces the extension of the comment period on the Transportation Security Administration's (TSA) Aviation Security Infrastructure Fee interim final rule. TSA has decided to grant, in part, a request for an extension of the comment period and will extend the comment period for fifteen (15) days. The comment period will now end on April 2, 2002.

DATES: The comment period is being extended from March 18, 2002, to April 2, 2002.

ADDRESSES: Submit written, signed comments to TSA Docket No. 2002-11334 , the Docket Clerk, U.S. DOT Dockets, Room PL-401, 400 Seventh Street, SW., Washington, DC 20590-0001. All comments received will be available for examination at the above address between 9 a.m. and 5 p.m., e.t., Monday through Friday, except Federal holidays. Those desiring notification of receipt of comments must include a self-addressed, stamped envelope or postcard on which the following statement is made: “Comments to Docket No. TSA-2002-11334.” The post card will be date stamped and mailed to the sender. Comments also may be sent electronically to the Dockets Management System (DMS) at: http://dms.dot.gov at any time. Those who wish to file comments electronically should follow the instructions on the DMS web site.

FOR FURTHER INFORMATION CONTACT: For guidance involving technical matters: Randall Fiertz, Deputy Director, Cost and Performance Management, Federal Aviation Administration, c/o Department of Transportation (DOT), Office of the Secretary, Office of the Assistant Secretary for Budget and Programs, 400 Seventh St., SW., Room 10101, Washington, DC 20590; telephone (202) 366-9192. For other matters: Rita M. Maristch, Department of Transportation, Office of the General Counsel, Office of Environmental, Civil Rights and General Law, 400 Seventh St., SW., Room 10102, Washington, DC 20590; telephone (202) 366-9161. Office hours are from 9:00 a.m. to 5:30 p.m., e.t. Monday through Friday, except Federal holidays.

SUPPLEMENTARY INFORMATION:

Availability of the Interim Final Rule and Comments Received

An electronic copy of this document and the interim final rule may be downloaded using a modem and suitable communications software from the Government Printing Office's Electronic Bulletin Boards Service at (202) 512-1661. Internet users may reach the Federal Register's home page at: http://www.nara.gov/fedreg and the Government Printing Office's database at: http://www.access.gpo.gov.

Internet users can access this document and all other documents and comments received by TSA through DOT's docket management system web site, http://dms.dot.gov. It is available 24 hours each day, 365 days each year. Please follow the instructions online for more information and help.

Comment Period Extension

On March 11, 2002, the Air Carrier Association of America (ACAA), the Cargo Airline Association (CAA), the National Air Carrier Association (NACA) and the Regional Airline Association (RAA), filed a petition for a thirty (30) day extension of the comment period on TSA's Aviation Security Infrastructure Fee interim final rule (see 67 FR 7926, February 20, 2002). Although TSA believes that the comment period is adequate, TSA has decided to grant, in part, the petitioners' request for an extension and will extend the comment period for fifteen (15) days. The comment period will now end on April 2, 2002. This extension will allow the commercial airline industry and other interested entities or individuals additional time to complete their comments on the interim final rule.

Issued in Washington, DC, on March 18, 2002.
John W. Magaw,
Under Secretary of Transportation for Security.

[FR Doc. 02-6852 Filed 3-18-02; 1:59 pm]

BILLING CODE 4910-62-P